ENVIRONMENTAL PROTECTION AGENCY

[EPA-HQ-OW-2007-0142; FRL-8319-1]

Agency Information Collection Activities; Proposed Collection; Comment Request; Cooling Water Intake Structure Phase II Existing Facilities (Renewal), EPA ICR No. 2060.03, OMB Control No. 2040-0257

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on May 31, 2007. Under OMB regulations, the Agency may continue to conduct or sponsor the collection of information while this submission is pending at OMB. The ICR which is abstracted below describes the nature of the collection and the estimated burden and cost.

DATES: Additional comments may be submitted on or before June 28, 2007.

ADDRESSES: Submit your comments, referencing docket ID number EPA-HQ-OW-2007-0142, to (1) EPA online using www.regulations.gov (our preferred method), by e-mail to ow-docket@epa.gov, or by mail to: EPA Docket Center (EPA/DC), Environmental Protection Agency, Water Docket, Mail Code 4101T, 1200 Pennsylvania Ave., NW., Washington, DC 20460, and (2) OMB at: Office of Information and Regulatory Affairs, Office of Management and Budget (OMB), Attention: Desk Officer for EPA, 725 17th Street, NW, Washington, DC 20503.

FOR FURTHER INFORMATION CONTACT: Amelia Letnes, State and Regional Branch, Water Permits Division, OWM, Mail Code: 4203M, Environmental Protection Agency, 1200 Pennsylvania Ave., NW., Washington, DC 20460; telephone number: (202) 564-5627; e-mail address: letnes.amelia@epa.gov.

SUPPLEMENTARY INFORMATION: EPA has submitted the following ICR to OMB for review and approval according to the procedures prescribed in 5 CFR 1320.12. On March 1, 2007 (72 FR 9328), EPA sought comments on this ICR pursuant to 5 CFR 1320.8(d). EPA received no comments on the draft ICR.

EPA has established a public docket for this ICR under Docket ID No. EPA-HQ-OW-2007-0142, which is available for public viewing online at http://www.regulations.gov, or in person viewing at the Water Docket in the EPA Docket Center (EPA/DC), EPA West, Room 3334, 1301 Constitution Ave., NW, Washington, DC. The EPA Docket Center Public Reading Room is open from 8:30 a.m. to 4:30 p.m., Monday through Friday, excluding legal holidays. The telephone number for the Reading Room is (202) 566-1744, and the telephone number for the Water Docket is (202) 566-2426. Use EPA's electronic docket and comment system at http://www.regulations.gov, to submit or view public comments, access the index listing of the contents of the docket, and to access those documents in the docket that are available electronically. Once in the system, select “docket search,” then key in the docket ID number identified above.

Any comments related to this ICR should be submitted to EPA and OMB within 30 days of this notice. EPA's policy is that public comments, whether submitted electronically or in paper, will be made available for public viewing at http://www.regulations.gov, as EPA receives them and without change, unless the comment contains copyrighted material, CBI, or other information whose public disclosure is restricted by statute. When EPA identifies a comment containing copyrighted material, EPA will provide a reference to that material in the version of the comment that is placed in the electronic docket. The entire printed comment, including the copyrighted material, will be available in the public docket. Although identified as an item in the official docket, information claimed as CBI, or whose disclosure is otherwise restricted by statute, is not included in the official public docket, and will not be available for public viewing in the electronic docket.

Title: Cooling Water Intake Structure Phase II Existing Facilities (Renewal).

ICR Numbers: EPA ICR Number 2060.03, OMB Control Number 2040-0257.

Abstract: The section 316(b) Phase II Existing Facility rule requires the collection of information from existing point source facilities that generate and transmit electric power (as a primary activity) or generate electric power but sell it to another entity for transmission, use a cooling water intake structure (CWIS) that uses at least 25 percent of the water it withdraws from waters of the United States for cooling purposes, and have a design intake flow of 50 million gallons per day (MGD) or more. Section 316(b) of the Clean Water Act (CWA) requires that any standard established under section 301 or 306 of the CWA and applicable to a point source must require that the location, design, construction and capacity of CWISs at that facility reflect the best technology available (BTA) for minimizing adverse environmental impact. Such impact occurs as a result of impingement (where fish and other aquatic life are trapped on technologies at the entrance to CWIS) and entrainment (where aquatic organisms, eggs, and larvae are taken into the cooling system, passed through the heat exchanger, and then pumped back out with the discharge from the facility). The 316(b) Phase II rule establishes requirements applicable to the location, design, construction, and capacity of CWISs at Phase II existing facilities. These requirements establish the BTA for minimizing adverse environmental impact associated with the use of CWISs.

On January 25, 2007, the United States Court of Appeals for the Second Circuit remanded to EPA certain provisions in the 2004 Final Regulations to Establish Requirements for Cooling Water Intake Structures at Phase II Existing Facilities (See Riverkeeper, Inc. v. U.S. EPA, No. 04-6692-ag(L) [2d Cir. Jan. 25, 2007]). EPA is continuing to review the decision to determine its impact on the Phase II Rule. This ICR does not address changes to EPA regulations as a result of the court decision, since those revisions are not yet finalized.

Burden Statement: The annual average reporting and record keeping burden for the collection of information by facilities responding to the Section 316(b) Phase II Existing Facility rule is estimated to be 2,983 hours per facility respondent (i.e., an annual average of 1,157,216 hours of burden divided among an anticipated annual average of 388 facilities). The state Director reporting and record keeping burden for the review, oversight, and administration of the rule is estimated to average 2,034 hours per state respondent (i.e. an annual average of 83,383 hours of burden divided among an anticipated 41 States on average per year). Burden means the total time, effort, or financial resources expended by persons to generate, maintain, or disclose or provide information to or for a Federal agency. This includes the time needed to review instructions; develop, acquire, install, and use technology and systems for the purposes of collecting, validating, and verifying information, processing and maintaining information, and disclosing and providing information; adjust the existing ways to comply with any previously applicable instructions and requirements; train personnel to be able to respond to a collection of information; search data sources; complete and review the collection of information; and transmit or otherwise disclose information.

Respondents/Affected Entities: 316(b) Phase II existing facilities and NPDES authorized states.

Estimated Annual Number of Respondents: 429 (388 facilities and 41 states)

Frequency of Response: Bi-annually, every five years.

Estimated Total Annual Hour Burden: 1,240,599 hours.

Estimated Total Annual Cost: $80,556,134. This includes an estimated labor burden cost of $65,592,289 and an estimated cost of $14,963,845 for capital investment or operating and maintenance.

Changes in the Estimates: The change in burden results mainly from the shift from the approval period to the renewal period of the 316(b) Phase II Existing Facilities rule. This ICR covers the last 2 years of the permit approval period (i.e. years 4 and 5 after implementation) and the first year of the renewal period (i.e. year 6 after implementation). Activities for renewing an NPDES permit already issued under the 316(b) Phase II Existing Facilities rule are less burdensome than those for issuing a permit for the first time. Additionally, for the approval period ICR (EPA ICR No. 2060.02), EPA assumed that all facilities complying with the rule would be in NPDES-authorized States. EPA has moved away from this assumption, and, for this ICR, all calculations are based on the estimated number and type of facilities in authorized and non-authorized States.

Dated: May 17, 2007.
Sara Hisel-McCoy,
Acting Director, Collection Strategies Division.

[FR Doc. E7-10223 Filed 5-25-07; 8:45 am]

BILLING CODE 6560-50-P